DEPARTMENT OF TRANSPORTATION

Federal Aviation Administration

Notice of Passenger Facility Charge (PFC) Approvals and Disapprovals

AGENCY: Federal Aviation Administration (FAA), DOT.

ACTION: Monthly Notice of PFC Approvals and Disapprovals. In November 2014, there were two applications approved. Additionally, four approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: Capital Region Airport Commission, Richmond, Virginia.

Application Number: 14-07-U-00-RIC.

Application Type: Use PFC revenue.

PFC Level: $4.50.

Total PFC Revenue Approved for Use in This Decision: $9,559,375.

Charge Effective Date: October 1, 2019.

Estimated Charge Expiration Date: March 1, 2025.

Class of Air Carriers Not Required To Collect PFC's: No change from previous decision.

Brief Description of Projects Approved for Use:

Construct cargo apron improvements.

Construct general aviation apron improvements.

Reconstruction of taxiway E and a portion of taxiway L.

Construct snow removal building.

Decision Date: November 6, 2014.

FOR FURTHER INFORMATION CONTACT: Jeffrey Breeden, Washington Airports District Office, (703) 661-1363.

Public Agency: Williamsport Regional Airport, Montoursville, Pennsylvania.

Application Number: 14-04-I-00-IPT.

Application Type: Impose and use a PFC.

PFC Level: $4.50.

Total PFC Revenue Approved in This Decision: $1,500,000.

Earliest Charge Effective Date: June 1, 2015.

Estimated Charge Expiration Date: September 1, 2028.

Class of Air Carriers Not Required To Collect PFC's: None.

Brief Description of Project Approved for Collection: Construct new passenger terminal building.

Decision Date: November 10, 2014.

FOR FURTHER INFORMATION CONTACT: Lori Ledebohm, Harrisburg Airports District Office, (717) 730-2835.

Amendment to PFC Approvals
Amendment No., city, state | Amendment approved date | Original approved net PFC revenue | Amended approved net PFC revenue | Original estimated charge exp. date | Amended estimated charge exp. date
12-08-C-01-SUN, Hailey, ID | 11/03/14 | $527,500 | $526,722 | 07/01/14 | 07/01/14
10-09-C-01-BTM, Butte, MT | 11/03/14 | 271,635 | 222,908 | 02/01/13 | 01/01/14
11-05-C-01-SFO, San Francisco, CA | 11/07/14 | 610,451,805 | 741,744,636 | 06/01/23 | 10/01/24
12-05-C-01-CHA, Chattanooga, TN | 11/12/14 | 6,896,122 | 7,969,956 | 06/01/17 | 10/01/15

Issued in Washington, DC, on December 1, 2014.
Joe Hebert,
Manager, Financial Analysis and Passenger Facility Charge Branch.

[FR Doc. 2014-28526 Filed 12-3-14; 8:45 am]

BILLING CODE 4910-13-P